ENVIRONMENTAL PROTECTION AGENCY

[ER-FRL-6650-9]

Environmental Impact Statements; Notice of Availability

Responsible Agency: Office of Federal Activities, General Information (202) 564-7167 or http://www.epa.gov/compliance/nepa/.

Weekly receipt of Environmental Impact Statements

Filed April 26, 2004, through April 30, 2004,

Pursuant to 40 CFR 1506.9.

EIS No. 040203, DRAFT EIS, NPS, AR, MS, LA, TN, Vicksburg Campaign Trail (VCT) Feasibility Study, To Examine and Evaluate a Number of Sites, Implementation, Mississippi River, AR, LA, TN and MS, Comment Period Ends: July 7, 2004, Contact: Richard Sussman (404) 562-3124.

EIS No. 040204, DRAFT EIS, FHW, NJ, Cross Harbor Freight Movement Project, Improve the Movements of Goods Throughout Northern New Jersey and Southern New York, Funding, Kings, Richmond, Queens, New York Counties, NJ, Comment Period Ends: July 6, 2004, Contact: Richard Backlund (FHW)-212-668-2205, Christopher Bonanti (FRA)-202-493-6383. The Department of Transportation's Federal Highway Administration and Federal Railroad Administration are Joint Lead Agencies for the above Project.

EIS No. 040205, FINAL EIS, AFS, UT, Fox and Cresent Reservoirs Maintenance Project, Dam Structures Operation and Maintenance, Special Use Permit Issuance, High Uintas Wilderness, Ashley National Forest, Uinta Basin, Duchesne County, UT, Wait Period Ends: June 7, 2004, Contact: Clark Tucker (435) 738-2482. This document is available on the Internet at: http://www.fs.fed.us/r4/ashley.

EIS No. 040206, DRAFT EIS, COE, FL, Central and Southern Florida Project, Comprehensive Everglades Restoration Plan, Aquifer Storage and Recovery (ASR) Pilot Operation, Aquifer Storage and Recovery Pilot Project, To Test the Feasibility Utilizing ASR Technology for Water Storage at Seven Well Sites, Right-of-Way and NPDES Permits, Several Counties, Comment Period Ends: June 21, 2004, Contact: Rebecca J. Weiss (904) 232-1577.

EIS No. 040207, DRAFT EIS, NPS, CA, Sequoia and Kings Canyon National Parks, Middle and South Forks of the Kings River and North Fork of the Kern River, General Management Plan, Tulare and Fresno Counties, CA, Comment Period Ends: August 5, 2004, Contact: Susan Spain (303) 969-2280.

EIS No. 040208, DRAFT EIS, NPS, CO, Colorado National Monument General Management Plan, Implementation, Mesa County, CO, Comment Period Ends: June 30, 2004, Contact: Palma Wilson (907) 858-3617 Ext 301.

EIS No. 040209, FINAL EIS, COE, FL, Central and Southern Project, Indian River Lagoon-South Feasibility Study, Final Integrated Project Implementation Report, Comprehensive Everglades Restoration Plan, (CERP), Martin and St. Lucie Counties, FL, Wait Period Ends: June 7, 2004, Contact: Michael Dupes (904) 232-1689. This document is available on the Internet at: http://www.evergladesplan.org/pm/studies/irl_south.cfm.

EIS No. 040210, DRAFT SUPPLEMENT, AFS, ID, Frank Church-River of No Return Wilderness (FR-RONRW), Noxious Weed Treatments, Updated Information to Supplement the 1999 Final EIS for FR-RONRW, Implementation, Bitterroot, Boise, Nez Perce, Payette and Salmon-Challis National Forests, ID, Comment Period Ends: June 21, 2004, Contact: Howard Lyman (208) 839-2211.

EIS No. 040211, FINAL EIS, USA, GA, Digital Multi-Purpose Range Complex at Fort Benning, Construction, Operation and Maintenance, Gunnery Training Facilities for the Bradley Fighting Vehicle (BFV) and the Abrams M1A1 Tank System (Tank), Fort Benning, GA, Wait Period Ends: June 7, 2004, Contact: Richard McDowell (706) 545-2211.

EIS No. 040212, FINAL EIS, FTA, NY, Second Avenue Subway Project, Improve Transit Access to Manhattan's East Side and Reduce Excess Crowds on the Lexington Avenue Subway, Metropolitan Transportation Authority (MTC) New York City Transit (NYCT), New York, NY, Wait Period Ends: June 7, 2004, Contact: Irwin B. Kessman (212) 668-2170.

EIS No. 040213, DRAFT EIS, FHW, CA, South Orange County Transportation Infrastructure Improvement Project, To Locate, Construct and Operate Transportation Improvements, Orange and San Diego Counties, CA, Comment Period Ends: July 7, 2004, Contact: Maiser Khaled (949) 754-3481.

EIS No. 040214, DRAFT EIS, FTA, CA, Gold Line Phase II—Pasadena to Montclair—Foothill Extension, To Address Transportation Problems and Deficiencies, Cities of Pasadena, Arcadia, Monrovia, Durate, Irwindale, Azusa, Glendora, San Dimas, La Verne, Pomona and Claremont in Los Angeles County and Cities of Montclair and Upland in San Bernardino County, CA, Comment Period Ends: June 21, 2004, Contact: Erv Poka (213) 202-3950. This document is available on the Internet at: http//www.metrogoldline.org.

EIS No. 040215, DRAFT EIS, COE, AZ, Va Shly'ay Akimel Salt River Ecosystem Restoration Feasibility Study, Increase and Improve Native Vegetation, in Portions of the Salt River Pima-Maricopa Indian Community (SRPMIC) and the City of Mesa, Maricopa County, AZ, Comment Period Ends: June 21, 2004, Contact: Kayla Eckert (602) 640-2003.

Amended Notices

EIS No. 040056, DRAFT EIS, FRA, CA, California High-Speed Train System, Proposes a High-Speed Train (HST) System for Intercity Travel, Extending from Sacramento and the San Francisco Bay Area in the north, through Central Valley, to Los Angeles and San Diego in the south, Orange County, CA, Comment Period Ends: August 31, 2004, Contact: David Valenstein (202) 493-6368.Revision of Federal Register notice published on 2/13/2004: CEQ Comment Period Ending 5/14/2004 has been Extended to 8/31/2004.

EIS No. 0240195, DRAFT SUPPLEMENT, NOA, Monkfish Fishery Management Plan (FMP) Amendment 2, Implementation, New England and Mid-Atlantic Coast, Comment Period Ends: July 28, 2004, Contact: Paul Howard (978) 465-0492. Revision of Federal Register notice published on 4/30/2004: Correction to Telephone Number.

Dated: May 4, 2004.
Ken Mittelholtz,
Environmental Protection Specialist, Office of Federal Activities.

[FR Doc. 04-10453 Filed 5-6-04; 8:45 am]

BILLING CODE 6560-50-P